FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on a proposed information collection. In accordance with the Paperwork Reduction Act of 1995 (44 U.S.C. 3506(c)(2)(A)), this notice seeks comments on the National Fire Academy (NFA) Course Evaluation Form.

SUPPLEMENTARY INFORMATION: The NFA is mandated under the Fire Prevention and Control Act of 1974 (Public Law 93-498) to provide training and education to the Nation's fire service and emergency service personnel. To maintain the quality of the training program and courses, it is necessary to evaluate them on an ongoing basis.

Collection of Information:

Title: National Fire Academy Course Evaluation Form.

Type of Information Collection: Extension of a currently approved collection.

OMB Number: 3067-0234.

Form Number: FEMA Form 95-20, National Fire Academy Course Evaluation Form.

Abstract: FEMA uses the National Fire Academy Course Evaluation Form to evaluate on-campus courses delivered at the NFA facility, located in Emmitsburg, Maryland. It is also used to evaluate regional courses, which are identical to the NFA resident courses, offered in selected regions to students unable to travel to the Emmitsburg campus for the resident offering of the course. The data provided by students evaluating an NFA course are used to determine the need for course improvements and the degree of student satisfaction with the course experience.

Affected Public: Individuals participating in NFA on-campus or regional courses.

Estimated Total Annual Burden Hours: 1,375.

Estimated Number of Respondents: 5,500.

Estimated Hour Burden Per Response: 15 minutes.

Frequency of Response: The evaluation form is completed after completion of a course.

Estimated Cost: The estimated cost to the respondent is minimal.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW, Room 316, Washington, DC 20472. Telephone number (202) 646-2625, Facsimile number (202) 646-3524, or e-mail muriel.anderson@fema.gov.

FOR FURTHER INFORMATION CONTACT: Contact Polly Barnett-Birdsall, Instructional Systems Specialist, National Fire Academy at (301) 447-1228 for additional information. Contact Ms. Anderson at (202) 646-2625 for copies of the proposed collection of information.

Dated: May 24, 2000.
Mike Bozzelli,
Acting Director, Program Services Division, Operations Support Directorate.

[FR Doc. 00-14661 Filed 6-8-00; 8:45 am]

BILLING CODE 6718-01-P